FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012117.

Title: Maersk Line/HLAG West Med Slot Exchange Agreement.

Parties: A.P. Moller-Maersk A/S and Hapag-Lloyd AG.

Filing Parties: Wayne Rohde, Esq.; Cozen O'Connor; 1627 I Street, NW.; Suite 1100; Washington, DC 20006.

Synopsis: The agreement authorizes the parties to exchange slots on their respective vessels in the trade between U.S. Atlantic and Gulf Coasts ports and ports in the Western Mediterranean. The parties have requested expedited review.

By Order of the Federal Maritime Commission.
Dated: February 1, 2011.
Karen V. Gregory,
Secretary.

[FR Doc. 2011-2481 Filed 2-3-11; 8:45 am]

BILLING CODE P